COMMISSION ON CIVIL RIGHTS

Agenda and Notice of Public Meeting of the Florida Advisory Committee

Notice is hereby given, pursuant to the provisions of the rules and regulations of the U.S. Commission on Civil Rights, that a meeting of the Florida Advisory Committee to the Commission will convene at 8:30 a.m. and adjourn at 1:30 p.m. on December 10, 2004, at the Inter-Continental Hotel, 100 Chopin Plaza, Miami, FL 33131. The purpose of the meeting is to determine what Civil Rights issues will be reviewed as a project.

Persons desiring additional information, or planning a presentation to the Committee, should contact Ivy Davis, Chief of the Regional Programs Coordination Unit, (202) 376-7700 (TDD (202) 376-8116). Hearing-impaired persons who will attend the meeting and require the services of a sign language interpreter should contact the Regional Office at least ten (10) working days before the scheduled date of the meeting.

The meeting will be conducted pursuant to the provisions of the rules and regulations of the Commission.

Dated at Washington, DC, November 13, 2004.
Aonghas St. Hillarie,
Acting Chief Managing Officer.

[FR Doc. 04-26264 Filed 11-26-04; 8:45 am]

BILLING CODE 6335-01-P